DEPARTMENT OF JUSTICE

Antitrust Division

Notice Pursuant to the National Cooperative Research and Production Act of 1993—Multi-Terabyte Tape Storage

Notice is hereby given that, on June 16, 2005, pursuant to Section 6(a) of the National Cooperative Research and Production Act of 1993, 15 U.S.C. 4301 et. seq. (“the Act”), Multi-Terabyte Tape Storage (“MTTS”) has filed written notifications simultaneously with the Attorney General and the Federal Trade Commission disclosing changes in its membership. The notifications were filed for the purpose of extending the Act's provisions limiting the recovery of antitrust plaintiffs to actual damages under specified circumstances. Specifically, Accutronics, Inc., Littleton, CO has withdrawn as a party to this venture.

No other changes have been made in either the membership or planned activity of the group research project. Membership in this group research project remains open, and MTTS intends to file additional written notification disclosing all changes in membership.

On October 29, 2002, MTTS filed its original notification pursuant to Section 6(a) of the Act. The Department of Justice published a notice in the Federal Register pursuant to Section 6(b) of the Act on December 5, 2002 (67 FR 72429).

The last notification was filed with the Department on September 30, 2003. A notice was published in the Federal Register pursuant to Section 6(b) of the Act on October 30, 2003 (68 FR 61830).

Dorothy B. Fountain,
Deputy Director of Operations, Antitrust Division.

[FR Doc. 05-15114 Filed 7-29-05; 8:45 am]

BILLING CODE 4410-11-M